FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, with revision, the Application for Employment with the Board of Governors of the Federal Reserve System (FR 28; OMB No. 7100-0181). The revisions are applicable as of October 31, 2017.

FOR FURTHER INFORMATION CONTACT: Federal Reserve Board Clearance Officer—Nuha Elmaghrabi—Office of the Chief Data Officer, Board of Governors of the Federal Reserve System, Washington, DC 20551, (202) 452-3829. Telecommunications Device for the Deaf (TDD) users may contact (202) 263-4869, Board of Governors of the Federal Reserve System, Washington, DC 20551.

OMB Desk Officer—Shagufta Ahmed—Office of Information and Regulatory Affairs, Office of Management and Budget, New Executive Office Building, Room 10235, 725 17th Street NW., Washington, DC 20503 or by fax to (202) 395-6974.

SUPPLEMENTARY INFORMATION: On June 15, 1984, the Office of Management and Budget (OMB) delegated to the Board authority under the Paperwork Reduction Act (PRA) to approve of and assign OMB control numbers to collection of information requests and requirements conducted or sponsored by the Board. Board-approved collections of information are incorporated into the official OMB inventory of currently approved collections of information. Copies of the Paperwork Reduction Act Submission, supporting statements and approved collection of information instrument(s) are placed into OMB's public docket files. The Federal Reserve may not conduct or sponsor, and the respondent is not required to respond to, an information collection that has been extended, revised, or implemented on or after October 1, 1995, unless it displays a currently valid OMB control number.

Final Approval Under OMB Delegated Authority of the Extension for Three Years, With Revision, of the Following Report

Report title: Application for Employment with the Board of Governors of the Federal Reserve System.

Agency form number: FR 28, FR 28s, FR 28i.

OMB control number: 7100-0181.

Frequency: As needed.

Respondents: Individuals.

Estimated number of respondents: FR 28: 3,500, FR 28s: 2,000, FR 28i: 300.

Estimated average hours per response: FR 28: 1 hour, FR 28s: 1 minute, FR 28i: 15 minutes.

Estimated annual burden hours: FR 28: 3,500 hours, FR 28s: 33 hours, FR 28i: 75 hours, Total: 3,608 hours.

General description of report: The Application for Employment with the Board of Governors of the Federal Reserve System (Application) collects information to determine the qualifications and availability of applicants for employment with the Board of Governors of the Federal Reserve System (Board). The FR 28 collects information on education and training, employment record, military service record, and other information since the time the applicant left high school. Included with the FR 28 are two supplemental questionnaires: (1) The Applicant's Voluntary Self-Identification Form (FR 28s), which collects information on the applicant's gender and ethnic group and (2) The Research Assistant Candidate Survey of Interests (FR 28i), which collects information from candidates applying for Research Assistant (RA) positions on their level of interest in economics and related areas. The Board receives approximately 3,500 applications per year, both solicited and unsolicited, from members of the public who would like to be considered for employment at the Board. Since the applicant is usually either hired by the Board or finds other employment within the two years that the Board retains the Application, the applicant generally files the Application once.

The Application is comprised of eight sections: Background, Education and Training, Employment Record, Military Service Record, References, General, Remarks, and Notes. The first six sections collect information on specific aspects of the applicant's qualifications. The Background section collects name, address, telephone, and citizenship information and the position for which the applicant is applying. The Education and Training section collects detailed information on the applicant's educational history and skills set. The Employment Record section collects a chronological summary of work experience. The Military Service Record section collects information on service branch, rank, duties, and discharge. The References section collects information on three references. The General section collects information on criminal records, discharge from employment, willingness to travel, and relations to or acquaintances with Board staff or officers and directors of financial institutions. The Remarks section provides the applicant an opportunity to provide further information regarding his or her qualifications. The Notes section explains what is required of the applicant prior to an interview and what may be required of the applicant if he or she is offered a position (for example, transcripts, medical examination, or drug test).

The FR 28s is comprised of four sections: (1) Name and gender, in which the applicant is asked to check the box that corresponds to gender or check “I do not wish to disclose”, (2) position for which the applicant is applying, (3) ethnicity self-identification, in which the applicant is asked to choose between Hispanic or Latino or Not Hispanic or Latino, or “I do not wish to disclose,” and (4) race self-identification, in which the applicant is asked to choose one or more among American Indian or Alaskan Native, Asian, Black or African-American, Native Hawaiian or Other Pacific Islander, White, or “I do not wish to disclose.” The Board uses this information to comply with federal equal employment opportunity (EEO) recordkeeping and reporting requirements, other legal requirements, and as an input to its self-analysis of hiring practices. Information collected on the FR 28s has no bearing on the determination of an applicant's job-related qualifications and completion of the self-identification form is voluntary.

The FR 28i is comprised of three sections in which research assistant candidates are asked to rate their level of interest in categories of economics and related research areas, experience with various software packages and statistical programming languages, and interest in pursuing educational opportunities after leaving the Board. The FR 28i helps to streamline the recruitment process.

Legal authorization and confidentiality: The Board's Legal Division has determined that the Application (including the two supplemental questionnaires) is required to obtain the benefit of Board employment. It is authorized pursuant to sections 10(4) and 11(1) of the Federal Reserve Act, which provide the Federal Reserve Board broad authority over employment of staff (12 U.S.C. 244 and 248(l)). Information provided on the Application (including the two supplemental questionnaires) will be kept confidential under exemption (b)(6) of the Freedom of Information Act (FOIA) to the extent that the disclosure of information “would constitute a clearly unwarranted invasion of personal privacy.” (5 U.S.C. 552(b)(6)). For example, the release of information such as an applicant's date of birth, address, phone number, and personal information regarding any references provided would likely constitute a clearly unwarranted invasion of personal privacy, and would be kept confidential. However, the release of information such as the educational and professional qualifications of applicants would not likely constitute a clearly unwarranted invasion of personal privacy and would not be kept confidential.

Current actions: On July 28, 2017, the Federal Reserve published a notice in the Federal Register (82 FR 35202) requesting public comment for 60 days on the extension, with revision, of the Application for Employment with the Board of Governors of the Federal Reserve System. The Board proposed minor revisions to the FR 28 form, including (1) adding fields in the employment history section for job type, shift, employee status, and desired compensation, (2) adding fields in the education and training section for issue and expiration date for certifications and professional licenses, (3) adding fields in the references section for relationship, type, and length of relationship with the reference, and (4) adding fields in the submission section to allow for withdrawal of the application and a request for the applicant to provide a reason for withdrawal. In addition, the Board proposed to revise the FR 28i by adding a section to allow an open-ended response by applicants to describe how they have demonstrated attributes that are displayed by successful research assistants in the Economics Divisions. The comment period for this notice expired on September 26, 2017. The Board did not receive any comments. The revisions will be implemented as proposed.

Board of Governors of the Federal Reserve System, October 20, 2017.
Ann E. Misback,
Secretary of the Board.

[FR Doc. 2017-23150 Filed 10-24-17; 8:45 am]

BILLING CODE 6210-01-P